DEPARTMENT OF THE INTERIOR

Bureau of Indian Affairs

American Indian/Alaska Native Population and Labor Force Estimate Report

AGENCY: Bureau of Indian Affairs, Interior.

ACTION: Notice of submission to the Office of Management and Budget.

SUMMARY: The Bureau of Indian Affairs (BIA) is submitting the information collection on the American Indian/Alaska Native Population and Labor Force Estimate Report for review and reinstatement as required by the Paperwork Reduction Act. The OMB Control Number is 1076-0147. This collection expired while we were revising the report to be more accurate.

DATE: Submit comments on or before July 9, 2009.

ADDRESSES: You may submit comments on the information collection to the Desk Officer for Department of the Interior at the Office of Management and Budget, by facsimile to (202) 395-5806 or you may send an e-mail to: OIRA_DOCKET@ omb.eop.gov. Please send a copy of your comments to Ms. Lynn Forcia, Office of Indian Energy and Economic Development, Department of the Interior, 1951 Constitution Avenue, NW., MS 321 SIB, Washington, DC 20245. Facsimile (202) 208-6991.

FOR FURTHER INFORMATION CONTACT: You may request further information or obtain copies of the information collection request submission from Ms. Lynn Forcia, Telephone (202) 219-5270.

SUPPLEMENTARY INFORMATION:

I. Abstract

This information collection is mandated by Congress through Public Law 102-477, Indian Employment, Training and Related Services Demonstration Act (Act) of 1992, section, 17. The Act requires the Secretary to develop, maintain and publish, not less than biennially, a consolidated report on the population by gender, income level, age, and availability for work. The consolidated report will be submitted to the Senate Indian Affairs Committee, as required by the Act and other Federal agencies. The consolidated report will also be available to Indian tribes and the general public, upon request.

The OMB Control Number for this information collection is 1076-0147. Approval for this information collection expired on July 31, 2008, while BIA was revising the report to make it more accurate; therefore, the BIA is submitting the information collection for reinstatement. A request for comments on this information collection request appeared in the Federal Register on Tuesday, September 16, 2008 (73 FR 53441). No comments were received in response to the announcement.

II. Request for Comments

The BIA requests that you send your comments on this collection to the two locations listed in the ADDRESSES section. Your comments should address: (a) The necessity of this information collection for the proper performance of the functions of the agency, including whether the information will have practical utility; (b) the accuracy of the agency's estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or request and an individual need not respond to, a collection of information unless it has a valid OMB Control Number.

It is our policy to make all comments available to the public for review at the location listed in the ADDRESSES section, Room 320-SIB, during the hours of 8 a.m. through 4 p.m., EST, Monday through Friday except for legal holidays. OMB has up to 60 days to make a decision on the submission for renewal, but may make the decision after 30 days. Therefore, to receive the best consideration of your comments, you should submit them during the first 30-day period.

Before including your address, phone number, e-mail address or other personally identifiable information, be advised that your entire comment—including your personally identifiable information—may be made public at any time. While you may request that we withhold your personally identifiable information, we cannot guarantee that we will be able to do so.

III. Data

OMB Approval Number: 1076-0147.

Title: American Indian/Native American Population and Labor Force Estimate Report.

Brief Description of Collection: Public Law 102-477, Indian Employment, Training and Related Services Demonstration Act of 1992 mandates the Secretary publish, not less than biennially, a report on the American Indian and Alaska Native population eligible for services by gender, income level, age, and availability for work. The process for collecting data includes the use of a paper data submission form with written instructions to be filled out by tribes and then certified at the tribal level. Response to this information collection is voluntary.

Type of review: Reinstatement.

Respondents: American Indian Tribes.

Number of Respondents: 562.

Estimated Time per Response: 8 hours.

Frequency of Response: Biennially.

Total Annual Burden to Respondents: 2,248 hours (4,496 hours biennially).

Dated: June 2, 2009.
Alvin Foster,
Acting Chief Information Officer—Indian Affairs.

[FR Doc. E9-13367 Filed 6-8-09; 8:45 am]

BILLING CODE 4310-4M-P